DEPARTMENT OF TRANSPORTATION

Surface Transportation Board

[Docket No. FD 35785]

The Three Rivers Railway Company—Corporate Family Merger Exemption—Mahoning State Line Railroad Company

The Three Rivers Railway Company (TRRC) and Mahoning State Line Railroad Company (MSLR) (collectively, applicants) have filed a verified notice of exemption under 49 CFR 1180.2(d)(3) for a corporate family transaction.

According to applicants, TRRC is a Class III railroad and a subsidiary of CSX Transportation, Inc. (CSXT).¹ TRRC directly controls and operates MSLR, a Class III carrier and wholly owned subsidiary of TRRC.

¹ See CSX Transp., Inc.—Continuance in Control Exemption—The Three Rivers Ry., FD 32056 (ICC served Oct. 23, 1992).

Under the proposed transaction, MSLR will be merged with and into TRRC. Applicants state that the purpose of the corporate transaction is to simplify the corporate structure and reduce overhead costs, and that the transaction will reduce corporate overhead and duplication by eliminating one corporation while retaining the same assets to serve customers.

Unless stayed, the exemption will be effective on December 21, 2013 (30 days after the verified notice was filed). Applicants state that TRRC intends to merge MSLR into TRRC on or after that date.

This is a transaction within a corporate family of the type specifically exempted from prior review and approval under 49 CFR 1180.2(d)(3). Applicants state that the transaction will not result in adverse changes in service levels, significant operational changes, or a change in the competitive balance with carriers outside the corporate family.

Under 49 U.S.C. 10502(g), the Board may not use its exemption authority to relieve a rail carrier of its statutory obligation to protect the interests of its employees. Because CSXT, which controls TRRC directly and MSLR indirectly, is a Class I carrier, any employees adversely affected by this transaction will, as a condition to the use of this exemption, be protected by the conditions set forth in New York Dock Railway—Control—Brooklyn District Eastern Terminal, 360 I.C.C. 60 (1979).²

² See Genessee & Wyo., Inc.—Corporate Family Transaction Exemption, FD 35764 (STB served Sept. 13, 2013) (making a corporate family transaction subject to labor protection that applies to transactions involving a Class II carrier because the corporate family included a Class II carrier).

If the notice contains false or misleading information, the exemption is void ab initio. Petitions to revoke the exemption under 49 U.S.C. 10502(d) may be filed at any time. The filing of a petition to revoke will not automatically stay the effectiveness of the exemption. Petitions for stay must be filed no later than December 13, 2013 (at least seven days before the exemption becomes effective).

An original and 10 copies of all pleadings, referring to Docket No. FD 35785, must be filed with the Surface Transportation Board, 395 E Street SW., Washington, DC 20423-0001. In addition, one copy of each pleading must be served on Louis E. Gitomer, Esq., Law Offices of Louis E. Gitomer, 600 Baltimore Avenue, Suite 301, Towson, MD 21204.

Board decisions and notices are available on our Web site at www.stb.dot.gov.

Decided: December 3, 2013.
By the Board, Rachel D. Campbell, Director, Office of Proceedings.
Raina S. White,
Clearance Clerk.

[FR Doc. 2013-29189 Filed 12-5-13; 8:45 am]

BILLING CODE 4915-01-P